DEPARTMENT OF JUSTICE

[OMB Number 1117-0015]

Agency Information Collection Activities; Proposed eCollection, eComments Requested; Extension Without Change of a Previously Approved Collection; Application for Registration, Application for Registration Renewal; DEA Forms 363, 363a

AGENCY: Drug Enforcement Administration, Department of Justice.

ACTION: 30-Day Notice.

SUMMARY: The Department of Justice (DOJ), Drug Enforcement Administration (DEA), will be submitting the following information collection request to the Office of Management and Budget (OMB) for review and approval in accordance with the Paperwork Reduction Act of 1995. The proposed information collection was previously published in the Federal Register, on February 21, 2018, allowing for a 60 day comment period.

DATES: Comments are encouraged and will be accepted for 30 days until May 17, 2018.

FOR FURTHER INFORMATION CONTACT: If you have comments on the estimated public burden or associated response time, suggestions, or need a copy of the proposed information collection instrument with instructions or additional information, please contact Michael J. Lewis, Diversion Control Division, Drug Enforcement Administration; Mailing Address: 8701 Morrissette Drive, Springfield, Virginia 22152; Telephone: (202) 598-6812 or sent to OIRA_submission@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information proposed to be collected can be enhanced; and

—Minimize the burden of the collection of information on those who are to respond, including through the use of appropriate automated, electronic, mechanical, or other forms of information technology, e.g., permitting electronic submission of responses.

Overview of This Information Collection

1. Type of Information Collection: Extension of a currently approved collection.

2. Title of the Form/Collection: Application for Registration, Application for Registration Renewal.

3. The agency form number, if any, and the applicable component of the Department sponsoring the collection: The form numbers are DEA Forms 363, 363a. The applicable component within the Department of Justice is the Drug Enforcement Administration, Diversion Control Division.

4. Affected public who will be asked or required to respond, as well as a brief abstract:

Affected public: Business or other for-profit.

Affected public (Other): Not-for-profit institutions, Federal, State, local, and tribal governments.

Abstract: The Controlled Substances Act requires practitioners who dispense narcotic drugs to individuals for maintenance or detoxification treatment to register annually with DEA.¹ 21 U.S.C. 822, 823; 21 CFR 1301.11 and 1301.13. Registration is a necessary control measure and helps to prevent diversion by ensuring the closed system of distribution of controlled substances can be monitored by DEA and the businesses and individuals handling controlled substances are qualified to do so and are accountable.

¹ This registration requirement is waived for certain practitioners under specified circumstances. See 21 U.S.C. 823(g)(2).

5. An estimate of the total number of respondents and the amount of time estimated for an average respondent to respond: DEA Form 363 is submitted on an as needed basis by persons seeking to become registered; DEA Form 363a is submitted on an annual basis thereafter to renew existing registrations. The below table presents information regarding the number of respondents, responses and associated burden hours.

| Number of annual respondents | Average time per response | Total annual hours
DEA Form 363 (paper) | 15 | 0.30 hours (18 minutes) | 5
DEA Form 363 (online) | 223 | 0.13 hours (8 minutes) | 30
DEA Form 363a (paper) | 51 | 0.22 hours (13 minutes) | 11
DEA Form 363a (online) | 1,437 | 0.10 hours (6 minutes) | 144
Total | 1,726 |  | 189
Figures are rounded.

6. An estimate of the total public burden (in hours) associated with the proposed collection: The DEA estimates that this collection takes 189 annual burden hours.

If additional information is required please contact: Melody Braswell, Department Clearance Officer, United States Department of Justice, Justice Management Division, Policy and Planning Staff, Two Constitution Square, 145 N Street NE, Suite 3E.405B, Washington, DC 20530.

Dated: April 11, 2018.
Melody Braswell,
Department Clearance Officer for PRA, U.S. Department of Justice.

[FR Doc. 2018-07904 Filed 4-16-18; 8:45 am]

BILLING CODE 4410-09-P